DEPARTMENT OF ENERGY

Federal Energy Regulatory Commission

Combined Notice of Filings

Take notice that the Commission has received the following Natural Gas Pipeline Rate and Refund Report filings:

Docket Number: PR20-36-000.

Applicants: Centana Intrastate Pipeline, LLC.

Description: Tariff filing per 284.123(b)(2)+(g): Centana Intrastate Pipeline, LLC Tariff Filing to be effective 3/1/2020.

Filed Date: 2/25/2020.

Accession Number: 202002255083.

Comments Due: 5 p.m. ET 3/17/2020.

284.123(g) Protests Due: 5 p.m. ET 4/27/2020.

Docket Number: PR20-37-000.

Applicants: Acadian Gas Pipeline System.

Description: Tariff filing per 284.123(b),(e)+(g): SOC Update—Fuel to be effective 4/1/2020.

Filed Date: 2/25/2020.

Accession Number: 202002255145.

Comments Due: 5 p.m. ET 3/17/2020.

284.123(g) Protests Due: 5 p.m. ET 4/27/2020.

Docket Number: PR20-20-001.

Applicants: American Midstream (Alabama Intrastate), LLC.

Description: Tariff filing per 284.123(b),(e)+(g): American Midstream (Alabama Intrastate) Amended SOC Filing to be effective 12/30/2019.

Filed Date: 2/27/2020.

Accession Number: 202002275138.

Comments Due: 5 p.m. ET 3/19/2020.

284.123(g) Protests Due: 5 p.m. ET 3/19/2020.

Docket Numbers: RP20-557-000.

Applicants: Northwest Pipeline LLC.

Description: § 4(d) Rate Filing: North and South Seattle Lateral Annual Charge Update Filing 2020 to be effective 4/1/2020.

Filed Date: 2/26/20.

Accession Number: 20200226-5263.

Comments Due: 5 p.m. ET 3/9/20.

Docket Numbers: RP20-558-000.

Applicants: Texas Eastern Transmission, LP.

Description: § 4(d) Rate Filing: Negotiated Rate—Amended MC Global 911524 to be effective 2/29/2020.

Filed Date: 2/26/20.

Accession Number: 20200226-5190.

Comments Due: 5 p.m. ET 3/9/20.

Docket Numbers: RP20-559-000.

Applicants: Egan Hub Storage, LLC.

Description: § 4(d) Rate Filing: FSS FOSA Modification Filing to be effective 3/27/2020.

Filed Date: 2/26/20.

Accession Number: 20200226-5197.

Comments Due: 5 p.m. ET 3/9/20.

Docket Numbers: RP20-560-000.

Applicants: Empire Pipeline, Inc.

Description: Compliance filing Refund Reports (Per Settlement in RP16-300 and RP18-940).

Filed Date: 2/26/20.

Accession Number: 20200226-5216.

Comments Due: 5 p.m. ET 3/9/20.

Docket Numbers: RP20-561-000.

Applicants: High Island Offshore System, L.L.C.

Description: 2020 Annual Fuel Tracker Filing of High Island Offshore System, L.L.C. under RP20-561.

Filed Date: 2/26/20.

Accession Number: 20200226-5219.

Comments Due: 5 p.m. ET 3/9/20.

Docket Numbers: RP20-562-000.

Applicants: Viking Gas Transmission Company.

Description: § 4(d) Rate Filing: Semi-Annual Fuel and Losses Retention Adjustment—Summer 2020 Rate to be effective 4/1/2020.

Filed Date: 2/26/20.

Accession Number: 20200226-5238.

Comments Due: 5 p.m. ET 3/9/20.

Docket Numbers: RP19-423-003.

Applicants: Tallgrass Interstate Gas Transmission, LLC.

Description: Compliance filing Rate Case Settlement RP19-423 et al. supplement to be effective 6/1/2019.

Filed Date: 2/27/20.

Accession Number: 20200227-5158.

Comments Due: 5 p.m. ET 3/10/20.

Docket Numbers: RP20-563-000.

Applicants: Equitrans, L.P.

Description: § 4(d) Rate Filing: AVC Storage Loss Retainage Factor Update—2020 to be effective 4/1/2020.

Filed Date: 2/27/20.

Accession Number: 20200227-5046.

Comments Due: 5 p.m. ET 3/10/20.

Docket Numbers: RP20-564-000.

Applicants: Discovery Gas Transmission LLC.

Description: § 4(d) Rate Filing: 2020 Tariff Revisions to be effective 4/1/2020.

Filed Date: 2/27/20.

Accession Number: 20200227-5055.

Comments Due: 5 p.m. ET 3/10/20.

Docket Numbers: RP20-565-000.

Applicants: El Paso Natural Gas Company, L.L.C.

Description: § 4(d) Rate Filing: Negotiated Rate Agreement Update (Conoco Mar 20) to be effective 3/1/2020.

Filed Date: 2/27/20.

Accession Number: 20200227-5081.

Comments Due: 5 p.m. ET 3/10/20.

Docket Numbers: RP20-566-000.

Applicants: Millennium Pipeline Company, LLC.

Description: § 4(d) Rate Filing: RAM 2020 to be effective 4/1/2020.

Filed Date: 2/27/20.

Accession Number: 20200227-5082.

Comments Due: 5 p.m. ET 3/10/20.

Docket Numbers: RP20-567-000.

Applicants: El Paso Natural Gas Company, L.L.C.

Description: § 4(d) Rate Filing: Non-Conforming Negotiated Rate Update (SoCal Apr 20) to be effective 4/1/2020.

Filed Date: 2/27/20.

Accession Number: 20200227-5083.

Comments Due: 5 p.m. ET 3/10/20.

Docket Numbers: RP20-568-000.

Applicants: Tennessee Gas Pipeline Company, L.L.C.

Description: § 4(d) Rate Filing: Fuel Tracker—2020 to be effective 4/1/2020.

Filed Date: 2/27/20.

Accession Number: 20200227-5101.

Comments Due: 5 p.m. ET 3/10/20.

Docket Numbers: RP20-569-000.

Applicants: Sierrita Gas Pipeline LLC.

Description: Compliance filing Fuel and L&U Compliance FIling to be effective 4/1/2020.

Filed Date: 2/27/20.

Accession Number: 20200227-5109.

Comments Due: 5 p.m. ET 3/10/20.

Docket Numbers: RP20-570-000.

Applicants: Dominion Energy Transmission, Inc.

Description: § 4(d) Rate Filing: DETI—February 27, 2020 Nonconforming Service Agreement to be effective 4/1/2020.

Filed Date: 2/27/20.

Accession Number: 20200227-5141.

Comments Due: 5 p.m. ET 3/10/20.

Docket Numbers: RP20-571-000.

Applicants: Texas Eastern Transmission, LP.

Description: § 4(d) Rate Filing: Negotiated Rate—MC Global 911524 release to CIMA 8962537 to be effective 2/29/2020.

Filed Date: 2/27/20.

Accession Number: 20200227-5143.

Comments Due: 5 p.m. ET 3/10/20.

Docket Numbers: RP20-572-000.

Applicants: Transcontinental Gas Pipe Line Company, LLC.

Description: § 4(d) Rate Filing: Transco Annual Fuel Tracker 2020 to be effective 4/1/2020.

Filed Date: 2/27/20.

Accession Number: 20200227-5178.

Comments Due: 5 p.m. ET 3/10/20.

Docket Numbers: RP20-573-000.

Applicants: NEXUS Gas Transmission, LLC.

Description: § 4(d) Rate Filing: Negotiated Rate—DTE Gas Release to Eco-Energy 960817 to be effective 3/1/2020.

Filed Date: 2/27/20.

Accession Number: 20200227-5181.

Comments Due: 5 p.m. ET 3/10/20.

Docket Numbers: RP20-574-000.

Applicants: Tallgrass Interstate Gas Transmission, LLC.

Description: § 4(d) Rate Filing: TIGT FL&U and EPCT Periodic Rate Adjustment 2020 to be effective 4/1/2020.

Filed Date: 2/27/20.

Accession Number: 20200227-5191.

Comments Due: 5 p.m. ET 3/10/20.

Docket Numbers: RP20-575-000.

Applicants: Transcontinental Gas Pipe Line Company, LLC.

Description: § 4(d) Rate Filing: Annual Electric Power Tracker Filing effective April 1, 2020 to be effective 4/1/2020.

Filed Date: 2/27/20.

Accession Number: 20200227-5197.

Comments Due: 5 p.m. ET 3/10/20.

Docket Numbers: RP20-576-000.

Applicants: El Paso Natural Gas Company, L.L.C.

Description: § 4(d) Rate Filing: Negotiated Rate Agreement Update (Pioneer Apr-Jun 2020) to be effective 4/1/2020.

Filed Date: 2/27/20.

Accession Number: 20200227-5200.

Comments Due: 5 p.m. ET 3/10/20.

Docket Numbers: RP20-577-000.

Applicants: El Paso Natural Gas Company, L.L.C.

Description: § 4(d) Rate Filing: Non-Conforming Agreement Filing (APS) to be effective 4/1/2020.

Filed Date: 2/27/20.

Accession Number: 20200227-5222.

Comments Due: 5 p.m. ET 3/10/20.

Docket Numbers: RP20-578-000.

Applicants: Egan Hub Storage, LLC.

Description: § 4(d) Rate Filing: Total—contract 310773 to be effective 4/1/2020.

Filed Date: 2/27/20.

Accession Number: 20200227-5227.

Comments Due: 5 p.m. ET 3/10/20.

Docket Numbers: RP20-579-000.

Applicants: Transcontinental Gas Pipe Line Company, LLC.

Description: § 4(d) Rate Filing: Negotiated Rates—Cherokee AGL—Replacement Shippers—Mar 2020 to be effective 3/1/2020.

Filed Date: 2/28/20.

Accession Number: 20200228-5009.

Comments Due: 5 p.m. ET 3/11/20.

Docket Numbers: RP20-580-000.

Applicants: Panhandle Eastern Pipe Line Company, LP.

Description: § 4(d) Rate Filing: Fuel Filing on 2-28-20 to be effective 4/1/2020.

Filed Date: 2/28/20.

Accession Number: 20200228-5015.

Comments Due: 5 p.m. ET 3/11/20.

Docket Numbers: RP20-581-000.

Applicants: Trunkline Gas Company, LLC.

Description: § 4(d) Rate Filing: Fuel Filing on 2-28-20 to be effective 4/1/2020.

Filed Date: 2/28/20.

Accession Number: 20200228-5016.

Comments Due: 5 p.m. ET 3/11/20.

Docket Numbers: RP20-582-000.

Applicants: Southwest Gas Storage Company.

Description: § 4(d) Rate Filing: Fuel Filing on 2-28-20 to be effective 4/1/2020.

Filed Date: 2/28/20.

Accession Number: 20200228-5021.

Comments Due: 5 p.m. ET 3/11/20.

Docket Numbers: RP20-583-000.

Applicants: Rover Pipeline LLC.

Description: § 4(d) Rate Filing: Fuel Filing on 2-28-20 to be effective 4/1/2020.

Filed Date: 2/28/20.

Accession Number: 20200228-5024.

Comments Due: 5 p.m. ET 3/11/20.

Docket Numbers: RP20-584-000.

Applicants: BBT Midla, LLC.

Description: Compliance filing BBT (Midla) LLC Annual Unaccounted for Gas Rentention Percentage Filing.

Filed Date: 2/28/20.

Accession Number: 20200228-5028.

Comments Due: 5 p.m. ET 3/11/20.

Docket Numbers: RP20-585-000.

Applicants: Cheniere Corpus Christi Pipeline, LP.

Description: § 4(d) Rate Filing: Electric Power Costs Eff April 1, 2020 to be effective 4/1/2020.

Filed Date: 2/28/20.

Accession Number: 20200228-5041.

Comments Due: 5 p.m. ET 3/11/20.

Docket Numbers: RP20-586-000.

Applicants: Kern River Gas Transmission Company.

Description: § 4(d) Rate Filing: 2020 Daggett Surcharge to be effective 4/1/2020.

Filed Date: 2/28/20.

Accession Number: 20200228-5078.

Comments Due: 5 p.m. ET 3/11/20.

Docket Numbers: RP20-587-000.

Applicants: Columbia Gas Transmission, LLC.

Description: Compliance filing Annual Report on Operational Transactions 2020 to be effective N/A.

Filed Date: 2/28/20.

Accession Number: 20200228-5095.

Comments Due: 5 p.m. ET 3/11/20.

Docket Numbers: RP20-588-000.

Applicants: Columbia Gulf Transmission, LLC.

Description: Compliance filing Annual Report on Operational Transactions 2020.

Filed Date: 2/28/20.

Accession Number: 20200228-5096.

Comments Due: 5 p.m. ET 3/11/20.

Docket Numbers: RP20-589-000.

Applicants: Crossroads Pipeline Company.

Description: Compliance filing Annual Report on Operational Transactions 2020.

Filed Date: 2/28/20.

Accession Number: 20200228-5097.

Comments Due: 5 p.m. ET 3/11/20.

Docket Numbers: RP20-590-000.

Applicants: Hardy Storage Company, LLC.

Description: Compliance filing Annual Report on Operational Transactions 2020.

Filed Date: 2/28/20.

Accession Number: 20200228-5098.

Comments Due: 5 p.m. ET 3/11/20.

Docket Numbers: RP20-591-000.

Applicants: Millennium Pipeline Company, LLC.

Description: Compliance filing Annual Report on Operational Transactions 2020.

Filed Date: 2/28/20.

Accession Number: 20200228-5099.

Comments Due: 5 p.m. ET 3/11/20.

Docket Numbers: RP20-592-000.

Applicants: Northwest Pipeline LLC.

Description: § 4(d) Rate Filing: 2020 Summer Fuel Filing to be effective 4/1/2020.

Filed Date: 2/28/20.

Accession Number: 20200228-5100.

Comments Due: 5 p.m. ET 3/11/20.

Docket Numbers: RP20-593-000.

Applicants: Kinder Morgan Louisiana Pipeline LLC.

Description: § 4(d) Rate Filing: Out-of-Time Periodic Rate Adjustment to be effective 4/1/2020.

Filed Date: 2/28/20.

Accession Number: 20200228-5103.

Comments Due: 5 p.m. ET 3/11/20.

Docket Numbers: RP20-594-000.

Applicants: Colorado Interstate Gas Company, L.L.C.

Description: § 4(d) Rate Filing: Qtrly LUF & Semi-Annual ML Fuel Update to be effective 4/1/2020.

Filed Date: 2/28/20.

Accession Number: 20200228-5104.

Comments Due: 5 p.m. ET 3/11/20.

Docket Numbers: RP20-595-000.

Applicants: Transwestern Pipeline Company, LLC.

Description: § 4(d) Rate Filing: Housekeeping Filing on 2-28-2020 to be effective 4/1/2020.

Filed Date: 2/28/20.

Accession Number: 20200228-5107.

Comments Due: 5 p.m. ET 3/11/20.

Docket Numbers: RP20-596-000.

Applicants: TransColorado Gas Transmission Company LLC.

Description: § 4(d) Rate Filing: FLU Filing to be effective 4/1/2020.

Filed Date: 2/28/20.

Accession Number: 20200228-5105.

Comments Due: 5 p.m. ET 3/11/20.

Docket Numbers: RP20-597-000.

Applicants: KPC Pipeline, LLC.

Description: § 4(d) Rate Filing: Fuel Reimbursement Adjustment to be effective 4/1/2020.

Filed Date: 2/28/20.

Accession Number: 20200228-5108.

Comments Due: 5 p.m. ET 3/11/20.

Docket Numbers: RP20-598-000.

Applicants: MarkWest Pioneer, L.L.C.

Description: § 4(d) Rate Filing: Quarterly Fuel Adjustment Filing to be effective 4/1/2020.

Filed Date: 2/28/20.

Accession Number: 20200228-5110.

Comments Due: 5 p.m. ET 3/11/20.

Docket Numbers: RP20-599-000.

Applicants: Florida Gas Transmission Company, LLC.

Description: § 4(d) Rate Filing: Fuel Filing on 2-28-20 to be effective 4/1/2020.

Filed Date: 2/28/20.

Accession Number: 20200228-5114.

Comments Due: 5 p.m. ET 3/11/20.

Docket Numbers: RP20-600-000.

Applicants: Cheniere Creole Trail Pipeline, L.P.

Description: § 4(d) Rate Filing: TRA—April 2020 to be effective 4/1/2020.

Filed Date: 2/28/20.

Accession Number: 20200228-5115.

Comments Due: 5 p.m. ET 3/11/20.

Docket Numbers: RP20-601-000.

Applicants: Sabine Pipe Line LLC.

Description: § 4(d) Rate Filing: Normal section 5 rates change 2020 to be effective 4/1/2020.

Filed Date: 2/28/20.

Accession Number: 20200228-5139.

Comments Due: 5 p.m. ET 3/11/20.

Docket Numbers: RP20-602-000.

Applicants: WBI Energy Transmission, Inc.

Description: § 4(d) Rate Filing: 2020 Annual Fuel & Electric Power Reimbursement Adjustment Filing to be effective 4/1/2020.

Filed Date: 2/28/20.

Accession Number: 20200228-5160.

Comments Due: 5 p.m. ET 3/11/20.

Docket Numbers: RP20-603-000.

Applicants: NEXUS Gas Transmission, LLC.

Description: § 4(d) Rate Filing: 2020 Initial ASA FIling to be effective 4/1/2020.

Filed Date: 2/28/20.

Accession Number: 20200228-5173.

Comments Due: 5 p.m. ET 3/11/20.

Docket Numbers: RP20-604-000.

Applicants: Dominion Energy Cove Point LNG, LP.

Description: § 4(d) Rate Filing: DECP—2020 Annual EPCA to be effective 4/1/2020.

Filed Date: 2/28/20.

Accession Number: 20200228-5182.

Comments Due: 5 p.m. ET 3/11/20.

Docket Numbers: RP20-605-000.

Applicants: Dominion Energy Cove Point LNG, LP.

Description: § 4(d) Rate Filing: DECP—2020 Annual Fuel Retainage to be effective 4/1/2020.

Filed Date: 2/28/20.

Accession Number: 20200228-5190.

Comments Due: 5 p.m. ET 3/11/20.

Docket Numbers: RP20-606-000.

Applicants: Rockies Express Pipeline LLC.

Description: § 4(d) Rate Filing: REX 2020-02-28 Negotiated Rate Agreements to be effective 3/1/2020.

Filed Date: 2/28/20.

Accession Number: 20200228-5191.

Comments Due: 5 p.m. ET 3/11/20.

Docket Numbers: RP20-607-000.

Applicants: WBI Energy Transmission, Inc.

Description: § 4(d) Rate Filing: 2020 Negotiated Service Agreement—ONEOK FT-1554 to be effective 4/1/2020.

Filed Date: 2/28/20.

Accession Number: 20200228-5201.

Comments Due: 5 p.m. ET 3/11/20.

Docket Numbers: RP20-608-000.

Applicants: ANR Pipeline Company.

Description: § 4(d) Rate Filing: Penalty Updates to be effective 4/1/2020.

Filed Date: 2/28/20.

Accession Number: 20200228-5199.

Comments Due: 5 p.m. ET 3/11/20.

Docket Numbers: RP20-609-000.

Applicants: NEXUS Gas Transmission, LLC.

Description: § 4(d) Rate Filing: Negotiated Rates—Columbia Gas 860005 Releases eff .3-1-2020 to be effective 3/1/2020.

Filed Date: 2/28/20.

Accession Number: 20200228-5210.

Comments Due: 5 p.m. ET 3/11/20.

Docket Numbers: RP20-610-000.

Applicants: Leaf River Energy Center LLC.

Description: § 4(d) Rate Filing: Non-Conforming Service Agreement and Related Tariff Changes to be effective 4/1/2020.

Filed Date: 2/28/20.

Accession Number: 20200228-5212.

Comments Due: 5 p.m. ET 3/11/20.

Docket Numbers: RP20-611-000.

Applicants: LA Storage, LLC.

Description: § 4(d) Rate Filing: LA Storage 2020 Annual Adjustment of Fuel Retainage Percentage to be effective 4/1/2020.

Filed Date: 2/28/20.

Accession Number: 20200228-5220.

Comments Due: 5 p.m. ET 3/11/20.

Docket Numbers: RP20-612-000.

Applicants: Crossroads Pipeline Company.

Description: § 4(d) Rate Filing: TRA 2020 to be effective 4/1/2020.

Filed Date: 2/28/20.

Accession Number: 20200228-5226.

Comments Due: 5 p.m. ET 3/11/20.

Docket Numbers: RP20-613-000.

Applicants: Midship Pipeline Company, LLC.

Description: § 4(d) Rate Filing: Non-Conforming/Neg Rate Agreements Foundation-Anchor Shippers to be effective 4/1/2020.

Filed Date: 2/28/20.

Accession Number: 20200228-5234.

Comments Due: 5 p.m. ET 3/11/20.

Docket Numbers: RP20-614-000.

Applicants: Transcontinental Gas Pipe Line Company, LLC.

Description: § 4(d) Rate Filing: Cash-Out Price Calculation to be effective 4/1/2020.

Filed Date: 2/28/20.

Accession Number: 20200228-5257.

Comments Due: 5 p.m. ET 3/11/20.

Docket Numbers: RP20-615-000.

Applicants: Columbia Gas Transmission, LLC.

Description: § 4(d) Rate Filing: RAM 2020 to be effective 4/1/2020.

Filed Date: 2/28/20.

Accession Number: 20200228-5258.

Comments Due: 5 p.m. ET 3/11/20.

Docket Numbers: RP20-616-000.

Applicants: Central Kentucky Transmission Company.

Description: § 4(d) Rate Filing: RAM 2020 to be effective 4/1/2020.

Filed Date: 2/28/20.

Accession Number: 20200228-5270.

Comments Due: 5 p.m. ET 3/11/20.

Docket Numbers: RP20-617-000.

Applicants: Natural Gas Pipeline Company of America.

Description: § 4(d) Rate Filing: Amendment to a Negotiated Rate Agreement—Spire Marketing to be effective 3/1/2020.

Filed Date: 2/28/20.

Accession Number: 20200228-5276.

Comments Due: 5 p.m. ET 3/11/20.

Docket Numbers: RP20-618-000.

Applicants: Transcontinental Gas Pipe Line Company, LLC.

Description: § 4(d) Rate Filing: GT&C Section 15 Disposition of Cash-Out Costs and Revenues to be effective 4/1/2020.

Filed Date: 2/28/20.

Accession Number: 20200228-5297.

Comments Due: 5 p.m. ET 3/11/20.

Docket Numbers: RP20-619-000.

Applicants: Golden Pass Pipeline LLC.

Description: Compliance filing Golden Pass Pipeline LLC Annual Report of Operational Purchases and Sales.

Filed Date: 2/28/20.

Accession Number: 20200228-5298.

Comments Due: 5 p.m. ET 3/11/20.

Docket Numbers: RP20-620-000.

Applicants: Columbia Gas Transmission, LLC.

Description: § 4(d) Rate Filing: EPCA 2020 to be effective 4/1/2020.

Filed Date: 2/28/20.

Accession Number: 20200228-5299.

Comments Due: 5 p.m. ET 3/11/20.

Docket Numbers: RP20-621-000.

Applicants: Tennessee Gas Pipeline Company, L.L.C.

Description: § 4(d) Rate Filing: pro forma—Proposed Firm Flexible Storage Service FS-F to be effective 12/31/9998.

Filed Date: 2/28/20.

Accession Number: 20200228-5308.

Comments Due: 5 p.m. ET 3/11/20.

Docket Numbers: RP20-622-000.

Applicants: Columbia Gas Transmission, LLC.

Description: § 4(d) Rate Filing: TCRA 2020 to be effective 4/1/2020.

Filed Date: 2/28/20.

Accession Number: 20200228-5319.

Comments Due: 5 p.m. ET 3/11/20.

Docket Numbers: RP20-626-000.

Applicants: UGI Mt. Bethel Pipeline Company, LLC.

Description: Annual Retainage Adjustment Filing of UGI Mt. Bethel Pipeline Company, LLC under RP20-626.

Filed Date: 2/28/20.

Accession Number: 20200228-5381.

Comments Due: 5 p.m. ET 3/11/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 2, 2020.
Nathaniel J. Davis, Sr.,
Deputy Secretary.

[FR Doc. 2020-04620 Filed 3-5-20; 8:45 am]

BILLING CODE 6717-01-P